DEPARTMENT OF TRANSPORTATION

Federal Aviation Administration

14 CFR Part 71

[Airspace Docket No. 00-ANM-24]

Revision of Class E Airspace, Jackson Hole, WY

AGENCY: Federal Aviation Administration (FAA), DOT.

ACTION: Final rule.

SUMMARY: This action revises the Jackson Hole, WY, Class E airspace to accommodate airspace required for new Standard Instrument Approach Procedure (SIAP) and Departure Procedures (DP) to the Jackson Hole Airport, Jackson Hole, WY. Newly developed approach and departure procedures at the Jackson Hole Airport has made this action necessary. Additional Class E 700-feet, and 1,200 feet controlled airspace, above the surface of the earth is required to contain aircraft executing the Instrument Landing System (ILS) Runway (RWY) 18 Standard Instrument Approach Procedure (SIAP) and the Geyser One and Jacho One Departure Procedures (DP) at Jackson Hole Airport. The intended effect of this proposal is to provide adequate controlled airspace for Instrument Flight Rules (IFR) operations at Jackson Hole Airport, Jackson Hole, WY.

EFFECTIVE DATE: 0901 UTC, June 18, 2001.

FOR FURTHER INFORMATION CONTACT: Brian Durham, ANM-520.7, Federal Aviation Administration, Docket No. 00-ANM-24, 1601 Lind Avenue SW, Renton, Washington 98055-4056: telephone number: (425) 227-2527.

SUPPLEMENTARY INFORMATION:

History

On February 13, 2001, the FAA proposed to amend Title 14 Code of Federal Regulations, part 71 (14 CFR part 71) by revising Class E airspace at Jackson Hole, WY, in order to accommodate a new SIAP and DPs at Jackson Hole Airport, Jackson Hole, WY (66 FR 30). This amendment provides Class E5 airspace at Jackson Hole, WY, to meet current criteria standards associated with the SIAP and DPs. Interested parties were invited to participate in the rulemaking proceeding by submitting written comments on the proposal. No comments were received.

The Rule

This amendment to Title 14 Code of Federal Regulations, part 71 (14 CFR part 71) revises Class E airspace at Jackson Hole, WY, in order to accommodate newly developed SIAP and DPs to the Jackson Hole Airport, Jackson Hole, WY. This amendment revises Class E5 airspace at Jackson Hole, WY, to meet current criteria standards associated with the SIAP and DPs. The FAA establishes Class E airspace where necessary to contain aircraft transitioning between the terminal and en route environments. This rule is designed to provide for the safe and efficient use of the navigable airspace and to promote safe flight operations under Instrument Flight Rules (IFR) at the Jackson Hole Airport and between the terminal and en route transition stages.

The area will be depicted on aeronautical charts for pilot reference. The coordinates for this airspace docket are based on North American Datum 83. Class E airspace areas extending upward from 700 feet or more above the surface of the earth, are published in Paragraph 6005, of FAA Order 7400.9H dated September 1, 2000, and effective September 16, 2000, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6005—Class E airspace areas extending upward from 700 feet or more above the surface of the earth.

* * * * *

ANM WY E5—Jackson Hole, WY [Revised]

Jackson Hole Airport, WY

(lat. 43°36′23″N., long. 110°44′17″W.)

Jackson VOR/DME

(lat. 43°36′30″N., long. 110°44′05″W.)

That airspace extending upward from 700 feet above the surface within the 4.3-mile radius of the Jackson Hole Airport, and within 4.4 miles west and 8.3 miles east of the Jackson VOR/DME 200° radial extending from the VOR/DME to 21.4 miles south of the VOR/DME, and within 4.4 miles each side of the 020° radial from the Jackson VOR/DME extending to 17.8 miles; and that airspace extending upward from 1,200 feet above the surface within 15.2 miles west and 18.7 miles east of the Jackson VOR/DME 020° radial extending from the VOR/DME to 44.6 miles north of the VOR/DME, and that airspace west of the Jackson VOR/DME bounded on the northwest by the southeast edge of V-520 extending to 15.2 miles in an arc counterclockwise to the northwest edge of V-465, and that airspace to the south of the Jackson VOR/DME bounded on the northwest by the southeast edge of V-465, on the east by the southwest edge of V-328, on the south by the north edge of V-4 and on the west by long. 112°00′00″W and that airspace east of the Jackson VOR/DME between the 052° radial and 156° radial extending to 33.1 miles; and excluding that airspace within Federal airways; the Big Piney; WY, the Rock Springs, WY; the Driggs, ID, Class E airspace areas.

* * * * *

Issued in Seattle, Washington, May 15, 2001.
Dan A. Boyle,
Assistant Manager, Air Traffic Division, Northwest Mountain Region.

[FR Doc. 01-13049 Filed 5-22-01; 8:45 am]

BILLING CODE 4910-13-M